DEPARTMENT OF ENERGY

Federal Energy Regulatory Commission

Combined Notice of Filings #1

Take notice that the Commission received the following electric corporate filings:

Docket Numbers: EC24-113-000.

Applicants: Bluegrass Solar, LLC.

Description: Application for Authorization Under Section 203 of the Federal Power Act of Bluegrass Solar, LLC.

Filed Date: 8/19/24.

Accession Number: 20240819-5210.

Comment Date: 5 p.m. ET 9/9/24.

Take notice that the Commission received the following electric rate filings:

Docket Numbers: ER10-2374-020.

Applicants: Puget Sound Energy, Inc.

Description: Notice of Non-Material Change in Status of Puget Sound Energy, Inc.

Filed Date: 8/19/24.

Accession Number: 20240819-5209.

Comment Date: 5 p.m. ET 9/9/24.

Docket Numbers: ER10-3125-017; ER10-3100-016; ER10-3109-014.

Applicants: Washington County Power, LLC, MPC Generating, LLC, AL Sandersville, LLC.

Description: Notice of Change in Status of AL Sandersville, LLC, et al.

Filed Date: 8/19/24.

Accession Number: 20240819-5214.

Comment Date: 5 p.m. ET 9/9/24.

Docket Numbers: ER13-520-013; ER13-521-013; ER13-1441-013; ER13-1442-013; ER12-1626-014; ER13-1267-013; ER13-1268-013; ER13-1269-013; ER13-1270-013; ER13-1271-013; ER13-1272-013; ER13-1273-013; ER10-2605-017; ER13-1266-040; ER15-2211-038; ER22-1385-001; ER10-1521-000; ER10-1520-000; ER20-2493-000.

Applicants: OTCF, LLC, Occidental Power Services, Inc., Occidental Power Marketing, L.P., BHER Market Operations, LLC., MidAmerican Energy Services, LLC, CalEnergy, LLC, Yuma Cogeneration Associates, Vulcan/BN Geothermal Power Company, Salton Sea Power L.L.C., Salton Sea Power Generation Company, Fish Lake Power LLC, Elmore Company, Del Ranch Company, CE Leathers Company, Topaz Solar Farms LLC, Solar Star California XX, LLC, Solar Star California XIX, LLC, Pinyon Pines Wind II, LLC, Pinyon Pines Wind I, LLC.

Description: Supplement to 06/29/2022, Pinyon Pines Wind I, LLC, et al. tariff filing.

Filed Date: 8/12/24.

Accession Number: 20240812-5173.

Comment Date: 5 p.m. ET 9/3/24.

Docket Numbers: ER22-1804-000.

Applicants: Yaphank Fuel Cell Park, LLC.

Description: Refund Report: Refund report to 1 Amendment Corrected to be effective N/A.

Filed Date: 8/19/24.

Accession Number: 20240819-5000.

Comment Date: 5 p.m. ET 9/9/24.

Docket Numbers: ER24-2601-002.

Applicants: Louise Solar Project, LLC.

Description: Tariff Amendment: Amendment to Application for Market-Based Rate Authority to be effective 8/15/2024.

Filed Date: 8/19/24.

Accession Number: 20240819-5192.

Comment Date: 5 p.m. ET 9/9/24.

Docket Numbers: ER24-2603-000.

Applicants: Fayette Solar, LLC.

Description: Supplement to 07/26/2024 Fayette Solar, LLC tariff filing.

Filed Date: 8/19/24.

Accession Number: 20240819-5207.

Comment Date: 5 p.m. ET 9/9/24.

Docket Numbers: ER24-2808-000.

Applicants: HV Sun SFA Manager 1, LLC.

Description: Baseline eTariff Filing: HV Sun SFA Manager 1, LLC Shared Facilities Agreement to be effective 9/1/2024.

Filed Date: 8/19/24.

Accession Number: 20240819-5205.

Comment Date: 5 p.m. ET 9/9/24.

Docket Numbers: ER24-2809-000.

Applicants: Harquahala Sun 1, LLC.

Description: Baseline eTariff Filing: Harquahala Sun 1, LLC Shared Facilities Agreement to be effective 9/1/2024.

Filed Date: 8/20/24.

Accession Number: 20240820-5000.

Comment Date: 5 p.m. ET 9/10/24.

Docket Numbers: ER24-2810-000.

Applicants: Harquahala Sun 2, LLC.

Description: Baseline eTariff Filing: Harquahala Sun 2, LLC Shared Facilities Agreement to be effective 9/1/2024.

Filed Date: 8/20/24.

Accession Number: 20240820-5001.

Comment Date: 5 p.m. ET 9/10/24.

Docket Numbers: ER24-2811-000.

Applicants: PJM Interconnection, L.L.C.

Description: § 205(d) Rate Filing: Amendment to WMPA No. 3185, W4-046 (amend) to be effective 10/20/2024.

Filed Date: 8/20/24.

Accession Number: 20240820-5018.

Comment Date: 5 p.m. ET 9/10/24.

Docket Numbers: ER24-2812-000.

Applicants: Midcontinent Independent System Operator, Inc.

Description: § 205(d) Rate Filing: 2024-08-20_SA 4327 ITC Midwest-Worthwhile Solar Farm West II GIA (J1520) to be effective 8/9/2024.

Filed Date: 8/20/24.

Accession Number: 20240820-5046.

Comment Date: 5 p.m. ET 9/10/24.

Docket Numbers: ER24-2813-000.

Applicants: California Independent System Operator Corporation.

Description: Compliance filing: 2024-08-20 Petition for Limited Tariff Waiver—Sentinel Black Start to be effective N/A.

Filed Date: 8/20/24.

Accession Number: 20240820-5064.

Comment Date: 5 p.m. ET 9/10/24.

Docket Numbers: ER24-2814-000.

Applicants: Avista Corporation.

Description: Section 205(d) Rate Filing: Avista Corp Four Lakes Construction Agreement AV-TR24-1228 to be effective 10/21/2024.

Filed Date: 8/20/24.

Accession Number: 20240820-5077.

Comment Date: 5 p.m. ET 9/10/24.

Docket Numbers: ER24-2815-000.

Applicants: Harquahala Sun 1, LLC.

Description: Section 205(d) Rate Filing: Harquahala Sun 1, LLC MBR Tariff to be effective 10/1/2024.

Filed Date: 8/20/24.

Accession Number: 20240820-5095.

Comment Date: 5 p.m. ET 9/10/24.

Docket Numbers: ER24-2816-000.

Applicants: Harquahala Sun 2, LLC.

Description: Section 205(d) Rate Filing: Harquahala Sun 2, LLC MBR Tariff to be effective 10/1/2024.

Filed Date: 8/20/24.

Accession Number: 20240820-5097.

Comment Date: 5 p.m. ET 9/10/24.

Docket Numbers: ER24-2817-000.

Applicants: Duke Energy Progress, LLC.

Description: Section 205(d) Rate Filing: DEP-NCEMC Reimbursement Agmt RS No. 449 to be effective 10/21/2024.

Filed Date: 8/20/24.

Accession Number: 20240820-5107.

Comment Date: 5 p.m. ET 9/10/24.

Docket Numbers: ER24-2818-000.

Applicants: Arizona Public Service Company.

Description: Section 205(d) Rate Filing: Service Agreement No. 418, Amendment No. 1 to be effective 10/20/2024.

Filed Date: 8/20/24.

Accession Number: 20240820-5108.

Comment Date: 5 p.m. ET 9/10/24.

Docket Numbers: ER24-2819-000.

Applicants: HV Sun SFA Manager 1, LLC.

Description: Application Under Section 204 of the Federal Power Act for Authorization to Issue Securities of HV Sun SFA Manager 1, LLC.

Filed Date: 8/20/24.

Accession Number: 20240820-5112.

Comment Date: 5 p.m. ET 9/10/24.

Take notice that the Commission received the following electric securities filings:

Docket Numbers: ES24-57-000.

Applicants: Horizon West Transmission, LLC.

Description: Application Under Section 204 of the Federal Power Act for Authorization to Issue Securities of Horizon West Transmission, LLC.

Filed Date: 8/19/24.

Accession Number: 20240819-5206.

Comment Date: 5 p.m. ET 9/9/24.

Docket Numbers: ES24-58-000.

Applicants: Montana-Dakota Utilities Co.

Description: Application Under Section 204 of the Federal Power Act for Authorization to Issue Securities of Montana-Dakota Utilities Co.

Filed Date: 8/19/24.

Accession Number: 20240819-5208.

Comment Date: 5 p.m. ET 9/9/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 20, 2024.
Debbie-Anne A. Reese,
Acting Secretary.

[FR Doc. 2024-19098 Filed 8-23-24; 8:45 am]

BILLING CODE 6717-01-P